DEPARTMENT OF THE INTERIOR

National Park Service

30-Day Notice of Submission to the Office of Management and Budget; Opportunity for Public Comment (OMIB34 1024-xxxx, “Appalachian Trail Management Partners Survey”)

AGENCY: Department of the Interior, National Park Service.

ACTION: Notice and request for comments.

SUMMARY: Under the provisions of the Paperwork Reduction Act of 1995 and 5 CFR Part 1320, Reporting and Recordkeeping Requirements, the National Park Service (NPS) invites public comments on a proposed new collection of information (OMB #1024-xxxx). The 30-Day Federal Register Notice for this collection of information that was published on May 13, 2008 (Volume 73, Number 93, Pages 27552-27553) was published in error and should be recognized as an incorrect version. The correct version of this 30-Day Federal Register Notice will be published at a later date. If you have any questions or concerns regarding this matter, please contact Leonard E. Stowe, NPS, Information Collection Clearance Officer, 1849 C St., NW., (2605), Washington, DC 20240; or via fax at 202/371-1427; or via e-mail at leonard_stowe@nps.gov.

Dated: May 19, 2008.
Leonard E. Stowe,
NPS, Information Collection Clearance Officer.

[FR Doc. E8-11543 Filed 5-22-08; 8:45 am]

BILLING CODE 4312-53-M